ENVIRONMENTAL PROTECTION AGENCY

[FRL-8293-3]

EPA Science Advisory Board Staff Office; Request for Nominations of Experts for the Acrylamide Review Panel

AGENCY: Environmental Protection Agency (EPA).

ACTION: Notice.

SUMMARY: Requesting the nomination of experts for the Science Advisory Board (SAB) Acrylamide Review Panel.

DATES: Nominations should be submitted by April 19, 2007, per instructions below.

FOR FURTHER INFORMATION CONTACT: Any member of the public wishing further information regarding this Request for Nominations may contact Dr. Suhair Shallal, Designated Federal Officer (DFO), SAB Staff Office, by telephone/voice mail at (202) 343-9977; by fax at (202) 233-0643; or via e-mail at shallal.suhair@epa.gov. General information concerning the EPA Science Advisory Board can be found on the EPA SAB Web Site at: http://www.epa.gov/sab.

SUPPLEMENTARY INFORMATION: Background: Acrylamide polymer is primarily used in waste water treatment, paper and pulp processing, and mineral processing. Other uses include as a water soluble polymer in crude oil production, as a cosmetic additive, for soil and sand stabilization, grouting agents for sewer line sealing and manhole sealing, and in electrophoresis gels used in research. Acrylamide has been detected in a wide range of baked and fried foods. The detection of acrylamide in food prompted intense international interest and on-going research to better characterize its hazard effects, and to modify cooking practices to minimize levels in processed foods. EPA's National Center for Environmental Assessment, within the Office of Research and Development, has been updating the human health hazard and dose-response assessment for Acrylamide. EPA previously developed an oral reference dose (RfD) for non-cancer effects and a cancer oral slope factor for Acrylamide which are described in EPA's Integrated Risk Information System (IRIS) assessment (1988). An inhalation reference concentration (RfC) was added to IRIS in 1990. The current EPA draft assessment incorporates more recent studies and methods to derive an oral RfD and inhalation RfC for non-cancer effects, and an oral slope factor and inhalation unit risk for carcinogenic effects. ORD has requested that the Science Advisory Board (SAB) review its draft assessment entitled “Toxicological Review of Acrylamide”.

The EPA Science Advisory Board (SAB) was established by 42 U.S.C. 4365 to provide independent scientific and technical advice, consultation and recommendations to the EPA Administrator on the technical basis for Agency positions and regulations. The SAB Acrylamide Review Panel, conducting the review of the Agency's draft assessment of acrylamide, will consist of members of the chartered SAB, SAB Committee members and additional external experts. This panel will comply with the provisions of the Federal Advisory Committee Act (FACA) and all appropriate SAB procedural policies. Upon completion, the panel's report will be submitted to the chartered SAB for final approval for transmittal to the EPA Administrator. The SAB Acrylamide Review Panel is being asked to comment on the scientific soundness of this draft assessment.

Availability of the Review Materials: The EPA draft document to be reviewed by the SAB Panel will be made available by the Office of Research and Development. For questions and information concerning the review materials, please contact Dr. Rob Dewoskin, at (919) 541-1089, or dewoskin.rob@epa.gov.

Request for Nominations: The SAB Staff Office is requesting nominations of nationally recognized experts with expertise in one or more of the following areas, especially with respect to the health effects of Acrylamide: neurotoxicology; epidemiology; toxicology, including reproductive/developmental toxicology, genetic toxicology and mechanisms of action for carcinogenicity; metabolism; pharmacokinetics and modeling; dose-response assessment; and exposure and risk assessment.

Process and Deadline for Submitting Nominations: Any interested person or organization may nominate qualified individuals for possible service on the Acrylamide Review Panel in the areas of expertise described above. Nominations should be submitted in electronic format through the SAB Web site at the following URL: http://www.epa.gov/sab; or directly via the Form for Nominating Individuals to Panels of the EPA Science Advisory Board link found at URL: http://www.epa.gov/sab/panels/paneltopics.html. Please follow the instructions for submitting nominations carefully. To be considered, nominations should include all of the information required on the associated forms. Anyone unable to submit nominations using the electronic form and who has any questions concerning the nomination process may contact Dr. Suhair Shallal, DFO, as indicated above in this notice. Nominations should be submitted in time to arrive no later than April 19, 2007.

For nominees to be considered, please include: contact information; a curriculum vitae; a biosketch of no more than two paragraphs (containing information on the nominee's current position, educational background, areas of expertise and research activities, service on other advisory committees and professional societies; the candidate's special expertise related to the panel being formed; and sources of recent grant and/or contract support).

The EPA SAB Staff Office will acknowledge receipt of nominations. The names and biosketchs of qualified nominees identified by respondents to the Federal Register notice and additional experts identified by the SAB Staff will be posted on the SAB Web Site at: http://www.epa.gov/sab. Public comments on this “Short List” of candidates will be accepted for 21 calendar days. The public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. In establishing the final Acrylamide Review Panel (ARP), the SAB Staff Office will consider public comments on the “Short List” of candidates, information provided by the candidates themselves, and background information independently gathered by the SAB Staff Office. Selection criteria to be used for Panel membership include: (a) Scientific and/or technical expertise, knowledge, and experience (primary factors); (b) availability and willingness to serve; (c) absence of financial conflicts of interest; (d) absence of an appearance of a lack of impartiality; and (e) skills working in committees, subcommittees and advisory panels; and, for the Panel as a whole, (f) diversity of, and balance among, scientific expertise, viewpoints, etc.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web Site at: http://www.epa.gov/sab/pdf/ec02010.pdf.

Dated: March 21, 2007
Anthony F. Maciorowski,
Deputy Director, EPA Science Advisory Board Staff Office.

[FR Doc. E7-5810 Filed 3-28-07; 8:45 am]

BILLING CODE 6560-50-P